DEPARTMENT OF AGRICULTURE

Animal and Plant Health Inspection Service

[Docket No. APHIS-2010-0110]

Notice of Request for Extension of Approval of an Information Collection; Customer/Stakeholder Satisfaction Surveys for the National Animal Health Monitoring System and the National Veterinary Services Laboratories

AGENCY: Animal and Plant Health Inspection Service, USDA.

ACTION: Extension of approval of an information collection; comment request.

SUMMARY: In accordance with the Paperwork Reduction Act of 1995, this notice announces the Animal and Plant Health Inspection Service's intention to request extension of approval of an information collection to conduct surveys of customer/stakeholder satisfaction for both the National Animal Health Monitoring System and the National Veterinary Services Laboratories.

DATES: We will consider all comments that we receive on or before February 15, 2011.

ADDRESSES: You may submit comments by either of the following methods:

• Federal eRulemaking Portal: Go to http://www.regulations.gov/fdmspublic/component/main?main=DocketDetail&d=APHIS-2010-0110 to submit or view comments and to view supporting and related materials available electronically.

• Postal Mail/Commercial Delivery: Please send one copy of your comment to Docket No. APHIS-2010-0110, Regulatory Analysis and Development, PPD, APHIS, Station 3A-03.8, 4700 River Road Unit 118, Riverdale, MD 20737-1238. Please state that your comment refers to Docket No. APHIS-2010-0110.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Customer/Stakeholder Satisfaction Surveys, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS Information Collection Coordinator, at (301) 851-2908.

SUPPLEMENTARY INFORMATION: Title: Customer/Stakeholder Satisfaction Surveys for the National Animal Health Monitoring System and the National Veterinary Services Laboratories.

OMB Number: 0579-0339.

Type of Request: Extension of approval of an information collection.

Abstract: Under the Animal Health Protection Act (7 U.S.C. 8301 et seq.), the Secretary of Agriculture is authorized to protect the health of our Nation's livestock, poultry, and aquaculture populations by preventing the introduction and interstate spread of serious diseases and pests of livestock and for eradicating such diseases from the United States when feasible. This authority has been delegated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS national studies have evolved into a collaborative industry and government initiative to help determine the most effective means of preventing and controlling diseases of livestock, poultry, and aquaculture. APHIS is the only agency responsible for collecting national data on livestock, poultry, and aquaculture health. Participation in any NAHMS study (including these surveys) is voluntary, and all data are confidential.

The National Veterinary Services Laboratories (NVSL) assists the NAHMS by providing testing services for many of the NAHMS projects. Primary functions of the NVSL also include providing diagnostic support for domestic diseases, potential foreign animal diseases, import/export programs, disease surveillance, and disease eradication efforts. The efforts of the NVSL are an essential part of preventing and controlling diseases of livestock, poultry, and aquaculture.

Information from the NAHMS studies is disseminated to and used by producers, animal health officials, private practitioners, animal industry groups, policymakers, public health officials, media, and educational institutions to improve the health and welfare, quality, and marketability of our Nation's livestock, poultry, and aquaculture.

Customer/stakeholder surveys are used to:

• Gather information from producers and other information users on the usefulness of studies and reports,

• Minimize producer burden,

• Increase response rates,

• Improve report quality and relevance to producers' and stakeholders' needs, and

• Improve laboratory performance.

The NAHMS staff will obtain feedback from Study Participant Surveys and NAHMS Descriptive Reports Surveys, and NVSL staff will obtain feedback from the annual NVSL Performance Surveys. Feedback from these surveys will be used to improve NAHMS Descriptive Reports and to evaluate customer/stakeholder satisfaction in an effort to increase participation rates for NAHMS studies. The NVSL surveys will help to monitor the NVSL's performance. Producers and stakeholders who participate in the NAHMS program, customers who utilize information from the NVSL, and customers who read NAHMS reports will benefit from more effective programs and timely, relevant information.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of burden on the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.24870 hours per response.

Respondents: Livestock, poultry, and catfish producers; information users; NAHMS Descriptive Report Recipients; Animal Health Report recipients; practicing veterinarians; animal importers/exporters; State and independent laboratories.

Estimated annual number of respondents: 22,500.

Estimated annual number of responses per respondent: 0.31666.

Estimated annual number of responses: 7,125.

Estimated total annual burden on respondents: 1,772 hours. (Due to averaging, the total annual burden hours may not equal the product of the annual number of responses multiplied by the reporting burden per response.)

All responses to this notice will be summarized and included in the request for OMB approval. All comments will also become a matter of public record.

Done in Washington, DC, this 13th day of December, 2010.
Kevin Shea,
Acting Administrator, Animal and Plant Health Inspection Service.

[FR Doc. 2010-31705 Filed 12-16-10; 8:45 am]

BILLING CODE 3410-34-P